DEPARTMENT OF THE INTERIOR

Fish and Wildlife Service

[FWS-HQ-MB-2014-N072; FXMB12310900WH0-134-91200-FF09M26000]

Information Collection Request Sent to the Office of Management and Budget (OMB) for Approval; Migratory Bird Harvest Information Program and Migratory Bird Surveys

AGENCY: Fish and Wildlife Service, Interior.

ACTION: Notice; request for comments.

SUMMARY: We (U.S. Fish and Wildlife Service) have sent an Information Collection Request (ICR) to OMB for review and approval. We summarize the ICR below and describe the nature of the collection and the estimated burden and cost. This information collection is scheduled to expire on April 30, 2014. We may not conduct or sponsor and a person is not required to respond to a collection of information unless it displays a currently valid OMB control number. However, under OMB regulations, we may continue to conduct or sponsor this information collection while it is pending at OMB.

DATES: You must submit comments on or before May 23, 2014.

ADDRESSES: Send your comments and suggestions on this information collection to the Desk Officer for the Department of the Interior at OMB-OIRA at (202) 395-5806 (fax) or OIRA_Submission@omb.eop.gov (email). Please provide a copy of your comments to the Service Information Collection Clearance Officer, U.S. Fish and Wildlife Service, MS 2042-PDM, 4401 North Fairfax Drive, Arlington, VA 22203 (mail), or hope_grey@fws.gov (email). Please include “1018-0023” in the subject line of your comments.

FOR FURTHER INFORMATION CONTACT: To request additional information about this ICR, contact Hope Grey at hope_grey@fws.gov (email) or 703-358-2482 (telephone). You may review the ICR online at http://www.reginfo.gov. Follow the instructions to review Department of the Interior collections under review by OMB.

SUPPLEMENTARY INFORMATION:

Information Collection Request

OMB Control Number: 1018-0023.

Title: Migratory Bird Harvest Information Program and Migratory Bird Surveys, 50 CFR 20.20.

Service Form Number: 3-165, 3-165A through E, 3-2056J through N.

Type of Request: Extension of a currently approved collection.

Description of Respondents: States and migratory game bird hunters.

Respondent's Obligation: Mandatory for Harvest Information Program registration information; voluntary for participation in the surveys.

Frequency of Collection: Annually or on occasion.

Activity | Number of respondents | Number of responses | Completion time per response | Total annual burden hours
Migratory Bird Harvest Information Program | 49 | 686 | 185 hours | 126,910
Migratory Bird Hunter Survey
Form 3—2056J | 37,100 | 37,100 | 5 minutes | 3,092
Form 3—2056K | 23,100 | 23,100 | 4 minutes | 1,540
Form 3—2056L | 11,700 | 11,700 | 4 minutes | 780
Form 3—2056M | 12,300 | 12,300 | 3 minutes | 615
Parts Collection Survey
Form 3—165 | 6,500 | 117,000 | 5 minutes | 9,750
Form 3—165A | 6,000 | 6,000 | 1 minute | 100
Form 3—165B | 3,000 | 4,500 | 5 minutes | 375
Form 3—165C | 400 | 400 | 1 minute | 7
Form 3—165D | 2,600 | 2,600 | 1 minute | 43
Form 3—165E | 2,600 | 3,900 | 5 minutes | 325
Sandhill Crane Harvest Survey
Form 3—2056N | 8,300 | 8,300 | 3.5 minutes | 484
Total | 113,649 | 227,586 |  | 144,021

Abstract: The Migratory Bird Treaty Act (16 U.S.C. 703-711) and the Fish and Wildlife Act of 1956 (16 U.S.C. 742d) designate the Department of the Interior as the key agency responsible for (1) the wise management of migratory bird populations frequenting the United States, and (2) setting hunting regulations that allow appropriate harvests that are within the guidelines that will allow for those populations' well-being. These responsibilities dictate that we gather accurate data on various characteristics of migratory bird harvest. Based on information from harvest surveys, we can adjust hunting regulations as needed to optimize harvests at levels that provide a maximum of hunting recreation while keeping populations at desired levels.

Under 50 CFR 20.20, migratory bird hunters must register for the Migratory Bird Harvest Information Program (HIP) in each State in which they hunt each year. State natural resource agencies must send names and addresses of all migratory bird hunters to us annually.

The Migratory Bird Hunter Survey is based on the Migratory Bird Harvest Information Program. We randomly select migratory bird hunters and ask them to report their harvest. The resulting estimates of harvest per hunter are combined with the complete list of migratory bird hunters to provide estimates of the total harvest for the species surveyed.

The Parts Collection Survey estimates the species, sex, and age composition of the harvest, and the geographic and temporal distribution of the harvest. Randomly selected successful hunters who responded to the Migratory Bird Hunter Survey the previous year are asked to complete and return a form if they are willing to participate in the Parts Collection Survey. We provide postage-paid envelopes to respondents before the hunting season and ask them to send in a wing or the tail feathers from each duck or goose that they harvest, or a wing from each mourning dove, woodcock, band-tailed pigeon, snipe, rail, or gallinule that they harvest. We use the wings and tail feathers to identify the species, sex, and age of the harvested sample. We also ask respondents to report on the envelope the date and location of harvest for each bird. We combine the results of this survey with the harvest estimates obtained from the Migratory Bird Hunter Survey to provide species-specific national harvest estimates.

The combined results of these surveys enable us to evaluate the effects of season length, season dates, and bag limits on the harvest of each species, and thus help us determine appropriate hunting regulations.

The Sandhill Crane Harvest Survey is an annual questionnaire survey of people who obtained a sandhill crane hunting permit. At the end of the hunting season, we randomly select a sample of permit holders and ask them to report the date, location, and number of birds harvested for each of their sandhill crane hunts. Their responses provide estimates of the temporal and geographic distribution of the harvest as well as the average harvest per hunter, which, combined with the total number of permits issued, enables us to estimate the total harvest of sandhill cranes. Based on information from this survey, we adjust hunting regulations as needed.

Comment Received and Our Response

Comments: On November 8, 2013, we published in the Federal Register (78 FR 67183) a notice of our intent to request that OMB renew approval for this information collection. In that notice, we solicited comments for 60 days, ending on January 7, 2014. We received one comment. The commenter objected to the surveys, but did not address the information collection requirements. We did not make any changes to our requirements.

Request for Public Comments

We again invite comments concerning this information collection on:

• Whether or not the collection of information is necessary, including whether or not the information will have practical utility;

• The accuracy of our estimate of the burden for this collection of information;

• Ways to enhance the quality, utility, and clarity of the information to be collected; and

• Ways to minimize the burden of the collection of information on respondents.

Comments that you submit in response to this notice are a matter of public record. Before including your address, phone number, email address, or other personal identifying information in your comment, you should be aware that your entire comment, including your personal identifying information, may be made publicly available at any time. While you can ask OMB in your comment to withhold your personal identifying information from public review, we cannot guarantee that it will be done.

Dated: April 18, 2014.
Tina A. Campbell,
Chief, Division of Policy and Directives Management, U.S. Fish and Wildlife Service.

[FR Doc. 2014-09259 Filed 4-22-14; 8:45 am]

BILLING CODE 4310-55-P